SECURITIES AND EXCHANGE COMMISSION

[Release No. 34-52913A; File No. SR-CBOE-2005-97]

Self-Regulatory Organizations; Chicago Board Options Exchange, Incorporated; Notice of Filing and Immediate Effectiveness of Proposed Rule Change Relating To Revisions to the Series 4 Examination Program

December 15, 2005.

Correction

FR Doc. E5-7338, issued on December 14, 2005,¹ incorrectly identified the exchange in the first sentence of the first paragraph of Release No. 34-52913. The corrected sentence reads as follows:

¹ See Securities Exchange Act Release No. 52913 (December 7, 2005), 70 FR 74068.

“Pursuant to Section 19(b)(1) of the Securities Exchange Act of 1934 (“Act”),² and Rule 19b-4 thereunder,³ notice is hereby given that on November 15, 2005, the Chicago Board Options Exchange, Incorporated (“CBOE” or “Exchange”) filed with the Securities and Exchange Commission (“SEC” or “Commission”) the proposed rule change as described in Items I, II, and III below, which Items have been prepared by CBOE.”

² 15 U.S.C. 78s(b)(1).

³ 17 CFR 240.19b-4.

For the Commission, by the Division of Market Regulation, pursuant to delegated authority.⁴
⁴ 17 CFR 200.30-3(a)(12).
Jonathan G. Katz,
Secretary.

[FR Doc. E5-7666 Filed 12-21-05; 8:45 am]

BILLING CODE 8010-01-P